DEPARTMENT OF THE TREASURY

President's Commission on the United States Postal Service

AGENCY: Department of the Treasury, Departmental Offices.

ACTION: Notice of meeting.

SUMMARY: Notice is given of a meeting of the President's Commission on the United States Postal Service.

DATES: The meeting will be held on Tuesday, April 29, 2003 from 8:30 a.m. to approximately 2:30 pm CST.

ADDRESSES: The meeting will be held in the Grand Ballroom (2nd Floor) of the Chicago Hilton, 720 S. Michigan Avenue, Chicago, Illinois 60605.

FOR FURTHER INFORMATION CONTACT: Roger Kodat, Designated Federal Official, 202-622-7073.

SUPPLEMENTARY INFORMATION: At the public meeting, the Commission will examine issues relating to the Postal Service's workforce, including the collective bargaining process and binding arbitration. Witnesses will testify at the invitation of the Commission. At the meeting, the Workforce Subcommittee will report to the Commission. Seating is limited.

Dated: April 11, 2003.
Roger Kodat,
Designated Federal Official.

[FR Doc. 03-9307 Filed 4-11-03; 10:50 am]

BILLING CODE 4811-16-P